DEPARTMENT OF TRANSPORTATION

Pipeline and Hazardous Materials Safety Administration

[Docket Number PHMSA-2009-0139 (Notice No. 09-3)]

Hazardous Materials: Request for Comments on Issues or Problems Concerning International Atomic Energy Agency Regulations for the Safe Transport of Radioactive Materials

AGENCY: Pipeline and Hazardous Materials Safety Administration (PHMSA).

ACTION: Notice; request for comments.

SUMMARY: PHMSA and the U.S. Nuclear Regulatory Commission (NRC) are jointly seeking comments on issues or problems concerning requirements in the International Atomic Energy Agency (IAEA) Regulations for the Safe Transport of Radioactive Material (referred to as TS-R-1). The IAEA is considering revisions to the TS-R-1 regulations as part of its periodic two-year review cycle for a 2013 Edition.

DATES: Submit comments by June 15, 2009. Comments received after this date will be considered if it is practical to do so; however, we are only able to assure consideration for proposals received on or before this date.

ADDRESSES: You may submit comments identified by the docket number (PHMSA-2009-0139) by any of the following methods:

• Federal eRulemaking Portal: Go to http://www.regulations.gov. Follow the online instructions for submitting comments.

• Fax: 1-202-493-2251.

• Mail: Docket Operations, U.S. Department of Transportation, West Building, Ground Floor, Room W12-140, Routing Symbol M-30, 1200 New Jersey Avenue, SE., Washington, DC 20590.

• Hand Delivery: To Docket Operations, Room W12-140 on the ground floor of the West Building, 1200 New Jersey Avenue, SE., Washington, DC 20590, between 9 a.m. and 5 p.m., Monday through Friday, except Federal Holidays.

Instructions: All submissions must include the agency name and docket number for this notice at the beginning of the comment. Note that all comments received will be posted without change to the docket management system, including any personal information provided.

Docket: For access to the dockets to read background documents or comments received, go to http://www.regulations.gov, or DOT's Docket Operations Office (see ADDRESSES).

FOR FURTHER INFORMATION CONTACT: Mr. Rick Boyle, Office of Hazardous Materials Technology, (202) 366-4545, Pipeline and Hazardous Materials Safety Administration.

Privacy Act: Anyone is able to search the electronic form of any written communications and comments received into any of our dockets by the name of the individual submitting the document (or signing the document, if submitted on behalf of an association, business, labor union, etc.). You may review DOT's complete Privacy Act Statement in the Federal Register published on April 11, 2000 (65 FR 19477) or you may visit http://www.regulations.gov.

SUPPLEMENTARY INFORMATION:

I. Background

The IAEA works with its Member States and multiple partners worldwide to promote safe, secure and peaceful nuclear technologies. The IAEA established and maintains an international standard, Regulations for the Safe Transport of Radioactive Material (TS-R-1), to promote the safe and secure transportation of radioactive material. The IAEA periodically reviews, and as deemed appropriate revises, its Regulations for the Safe Transport of Radioactive Material to reflect new information and accumulated experience. The DOT is the U.S. competent authority before the IAEA for radioactive material transportation matters. The NRC provides technical support to the DOT in this regard, particularly with regard to Type B and fissile transportation packages.

The IAEA recently initiated a review cycle for its regulations. To assure opportunity for public participation in the international regulatory development process, the DOT and the NRC are soliciting comments and information concerning issues or problems with the IAEA Regulations.

The focus of this solicitation is to identify issues or problems with the 2009 of TS-R-1. Although IAEA has not yet published the 2009 Edition of TS-R-1, a draft version suitable for this review process is available on http://www.regulations.gov (use the search tool to locate the docket number for this notice). The IAEA has already identified a number of issues with that draft; a table showing draft proposed changes to the 2009 Edition is also available through this docket at http://www.regulations.gov.

It would be helpful to recommend potential changes or solutions to resolve any identified issues or problems. This information will assist the DOT and the NRC to consider the full range of views and alternatives as the agencies develop the proposed issues the United States will submit to the IAEA.

II. Public Participation

Proposals must be submitted in writing (electronic file in Microsoft Word format preferred).

The DOT and the NRC will review the proposed issues and identified problems. Proposed issues and identified problems from all Member States and International Organizations will be initially considered at an IAEA Transport Safety Standards Committee (TRANSSC) Meeting to be convened by IAEA on October 5-9, 2009, in Vienna, Austria. Prior to that meeting, the DOT and the NRC will consider convening a public meeting to discuss the U.S. proposals submitted to the IAEA.

Issued in Washington, DC, on May 28, 2009.
Theodore L. Willke,
Associate Administrator for Hazardous Materials Safety.

[FR Doc. E9-12778 Filed 6-1-09; 8:45 am]

BILLING CODE 4910-60-P